DEPARTMENT OF HOUSING AND URBAN DEVELOPMENT

[Docket No. FR-5874-N-02]

HUD Administrative Fee Formula—Extension of Public Comment

AGENCY: Office of the Assistant Secretary for Policy Development and Research, HUD.

ACTION: Notice: Extension of public comment period.

SUMMARY: On June 26, 2015, HUD published a notice in the Federal Register entitled “HUD Administrative Fee Formula-Solicitation of Comment,” inviting public comment through July 27, 2015. This document announces that HUD is extending the public comment period, for an additional 15-day period, to August 11, 2015.

DATES: Comment Due Date: For the notice published on June 26, 2015 (80 FR 36832), the comment due date is extended to August 11, 2015.

ADDRESSES: Interested persons are invited to submit comments regarding this rule to the Regulations Division, Office of General Counsel, 451 7th Street SW., Room 10276, Department of Housing and Urban Development, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit comments, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. All submissions must refer to the docket number and title of the rule.

No Facsimile Comments. Facsimile (fax) comments are not acceptable.

Public Inspection of Public Comments. All properly submitted comments and communications submitted to HUD will be available for public inspection and copying between 8 a.m. and 5 p.m. eastern time, weekdays, at the above address. Due to security measures at the HUD Headquarters building, an advance appointment to review the public comments must be scheduled by calling the Regulations Division at 202-708-3055 (this is not a toll-free number). Individuals with speech or hearing impairments may access this number through TTY by calling the Federal Relay Service, toll free, at 800-877-8339. Copies of all comments submitted are available for inspection and downloading at www.regulations.gov.

FOR FURTHER INFORMATION CONTACT: Todd Richardson, Associate Deputy Assistant Secretary for Policy Development, Office of Policy Development and Research, Department of Housing and Urban Development, 451 7th Street SW., Room 8106, Washington, DC 20410; telephone number 202-402-5706 (this is not a toll-free number). Persons with hearing or speech impairments may access this number by calling the Federal Relay Service at 800-877-8339 (this is a toll-free number).

SUPPLEMENTARY INFORMATION: On June 26, 2015 (80 FR 36832), HUD published a notice in the Federal Register that invited public comment on the variables identified by the Housing Choice Voucher Program Administrative Fee Study as impacting administrative fee costs, how HUD might use these study findings to develop a new administrative fee formula, and any other issues that may arise with the development and implementation of a new administrative fee formula.

In the June 26, 2015 notice, HUD established a comment due date of July 27, 2015. In response to recent requests for additional time to submit comments, HUD believes an extension of the deadline would provide the time needed for interested parties to submit comments. Therefore, HUD is announcing through this notice an extended comment period, for an additional 15-day period, to August 11, 2015.

Dated: July 13, 2015.
Camille Acevedo,
Associate General Counsel for Legislation and Regulations.

[FR Doc. 2015-17462 Filed 7-15-15; 8:45 am]

BILLING CODE 4210-67-P